DEPARTMENT OF TRANSPORTATION

Federal Aviation Administration

RTCA Special Committee 193/EUROCAE Working Group 44; Terrain and Airport Databases

Pursuant to section 10(a)(2) of the Federal Advisory Committee Act (Pub. L. 92-463, 5 U.S.C., Appendix 2), notice is hereby given for a Special Committee 193/EUROCAE Working Group 44 meeting to be held June 5-9, 2000, starting at 9 a.m. The meeting will be held at The Sweetbrier Inn, 7125 SW Nyberg Road, Tualatin, Oregon 97062 (South of Portland).

The agenda will be as follows:

June 5 Opening Plenary Session

(1) Welcome and Introductions

(2) Review/Approval of Meeting Agenda

(3) Review Summary of the Previous Meeting

(4) Discussion of Interface Issues between Subgroups 2 and 3;

1 p.m. (5) Subgroup 2—Terrain and Obstacle Databases;

(a) Review of Summary of the Previous Meeting

(b) Review of Actions Items

(c) Review of the Draft Document

(d) Other Subgroup 2 Activities

(6) Subgroup 3—Airport Databases:

(a) Review of Previous Meeting Minutes

(b) Review of Actions Items

(c) Presentations

(d) Review of the Draft Document

June 6-8

(7) Subgroup 2—Continuation of Discussions

(8) Subgroup 3—Continuation of Discussions.

June 9 Closing Plenary Session

(9) Summary of Subgroups 2 and 3 Meetings

(10) Assign Tasks

(11) Other business

(12) Dates and Locations of Next Meeting

(13) Closing.

Attendance is open to the interested public but limited to space availability. With the approval of the chairmen, members the public may present oral statements at the meeting. Persons wishing to present statements or obtain information should contact the RTCA Secretariat, 1140 Connecticut Avenue NW, Washington, DC 20036; (202) 833-9339 (phone), (202) 833-9434 (fax), or http://www.rtca.org (web site) or the on-site contact, Mr. Walter Johnson, at (503) 443-3321 or email walt_johnson@fltdyn.com. Members of the public may present a written statement to the committee at any time.

Issued in Washington, DC, on May 5, 2000.
Janice L. Peters,
Designated Official.

[FR Doc. 00-12168 Filed 5-12-00; 8:45 am]

BILLING CODE 4910-13-M